DEPARTMENT OF COMMERCE

International Trade Administration

[A-533-922, A-570-160]

2,4-Dichlorophenoxyacetic Acid From India and the People's Republic of China: Postponement of Preliminary Determinations in the Less-Than-Fair-Value Investigations

AGENCY: Enforcement and Compliance, International Trade Administration, Department of Commerce.

DATES: Applicable August 20, 2024.

FOR FURTHER INFORMATION CONTACT: Grant Fuller at (202) 482-6228 (India); Anjali Mehindiratta at (202) 482-9127 (the People's Republic of China (China)), AD/CVD Operations, Enforcement and Compliance, International Trade Administration, U.S. Department of Commerce, 1401 Constitution Avenue NW, Washington, DC 20230.

SUPPLEMENTARY INFORMATION:

Background

On April 23, 2024, the U.S. Department of Commerce (Commerce) initiated less-than-fair-value (LTFV) investigations of imports of 2,4-Dichlorophenoxyacetic Acid (2,4-D) from India and China.¹ On July 22, 2024, Commerce tolled certain deadlines in this administrative proceeding by seven days.² The deadline for these preliminary determinations is now September 17, 2024.

¹ See 2,4-Dichlorophenoxyacetic Acid from the People's Republic of China and India: Initiation of Less-Than-Fair-Value Investigations, 89 FR 34200 (April 30, 2024) (Initiation Notice).

² See Memorandum, “Tolling of Deadlines for Antidumping and Countervailing Duty Proceedings,” dated July 22, 2024.

Postponement of Preliminary Determinations

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is Corteva Agriscience LLC.

On August 7, 2024, the petitioner submitted a timely request that Commerce postpone the preliminary determinations in these LTFV investigations.⁴ The petitioners stated that it requests postponement “because {these} investigation{s} involve{ } complex and novel issues, which require additional time to investigate completely.” ⁵

⁴ See Petitioner's Letter, “Request for Postponement of Preliminary Determination,” dated August 7, 2024.

⁵ Id. at 1-2.

For the reason stated above and because there are no compelling reasons to deny the request, Commerce, in accordance with section 733(c)(1)(A) of the Act, is postponing the deadline for the preliminary determinations by 50 days (i.e., 190 days after the date on which these investigations were initiated). As a result, Commerce will issue its preliminary determinations no later than November 6, 2024.⁶ In accordance with section 735(a)(1) of the Act and 19 CFR 351.210(b)(1), the deadline for the final determinations of these investigations will continue to be 75 days after the date of the preliminary determinations, unless postponed at a later date.

⁶ This deadline has been tolled by seven days. See footnote 2, supra.

This notice is issued and published pursuant to section 733(c)(2) of the Act and 19 CFR 351.205(f)(1).

Dated: August 13, 2024.
Ryan Majerus,
Deputy Assistant Secretary for Policy and Negotiations, performing the non-exclusive functions and duties of the Assistant Secretary for Enforcement and Compliance.

[FR Doc. 2024-18590 Filed 8-19-24; 8:45 am]

BILLING CODE 3510-DS-P